DEPARTMENT OF DEFENSE

Department of the Army, Corps of Engineers

Notice of Intent To Prepare a Draft Integrated Feasibility Report Including Environmental Impact Statement/Environmental Impact Report (Integrated Feasibility Report) for the East San Pedro Bay Ecosystem Restoration Feasibility Study, Los Angeles County, CA

AGENCY: Department of the Army, U.S. Army Corps of Engineers, DoD.

ACTION: Notice of Intent.

SUMMARY: The Los Angeles District of the U.S. Army Corps of Engineers (Corps) and the City of Long Beach intend to prepare a draft Environmental Impact Statement/Environmental Impact Report (EIS/EIR) for the East San Pedro Bay Ecosystem Restoration Feasibility Study, Los Angeles County, California. The components of the EIS/EIR will be contained in an Integrated Feasibility Report (IFR) that also includes a Feasibility Report.

DATES: Two public scoping meetings will be held on April 7, 2016, at 2:00 p.m. and at 6:00 p.m. Submit written comments concerning this notice no later than May 7, 2016.

ADDRESSES: The location for the scoping meetings is: Bixby Park Community Center, 130 Cherry Avenue, Long Beach, CA 90802.

Mail written comments, suggestions, and/or request to be placed on the mailing list for announcements to: Naeem A. Siddiqui, U.S. Army Corps of Engineers, Los Angeles District, CESPL-PDR-N, 915 Wilshire Blvd., Los Angeles, CA 90017-3401 or by email to: Naeem.A.Siddiqui@usace.army.mil.

FOR FURTHER INFORMATION CONTACT: Naeem A. Siddiqui, Project Environmental Coordinator, 213-452-3852, Naeem.A.Siddiqui@usace.army.mil.

SUPPLEMENTARY INFORMATION: The Feasibility Study is being conducted as a partial response to Senate Resolution, dated June 25, 1969, reading in part:

Resolved by the Committee on Public Works of the United States Senate, that the Board of Engineers for Rivers and Harbors, created under Section 3 of the River and Harbor Act, approved June 13, 1902, be, and is hereby requested to review the report of the Chief of Engineers on the Los Angeles and San Gabriel Rivers and Ballona Creek, California, published as House Document Numbered 838, Seventy-sixth Congress, and other pertinent reports, with a view to determining whether any modifications contained herein are advisable at the present time, in the resources in the Los Angeles County Drainage Area. . . .

The study area is located offshore of the City of Long Beach, California, in the easternmost part of San Pedro Bay. It includes the area between the Long Beach shoreline, the Long Beach Breakwater and the Los Angeles River estuary.

The Corps is the lead agency in preparing the EIS in accordance with the National Environmental Policy Act (NEPA). The City of Long Beach is the non-Federal sponsor of the Feasibility Study and the lead agency in preparing the EIR in accordance with the California Environmental Quality Act. The Corps and City of Long Beach have agreed to jointly prepare an IFR including EIS/EIR to optimize efficiency and avoid duplication.

1. Description. The study will evaluate opportunities to restore aquatic habitat such as kelp, rocky reef, coastal wetlands and other types of sufficient quality and quantity to support diverse resident and migratory species, and to improve water circulation sufficient to support and sustain aquatic habitat, within East San Pedro Bay, California. Recreational opportunities will also be explored, although the primary objective will be ecosystem restoration.

The Corps completed a Reconnaissance Report in August 2010 which identified a federal interest in addressing issues such as loss of historic coastal wetlands, lack of rocky reef/hard bottom habitat, loss of kelp habitat, poor water circulation and tidal action, and other degraded ecosystem conditions. The study is now entering the feasibility phase in which alternatives will be developed, a tentatively selected plan and ultimately a proposed project will be identified, and environmental documentation will be completed.

2. Alternatives. Potential measures that would meet the objectives of the study are currently being developed and may include the addition of rocks out side of navigational channels to create underwater rocky reef and form a base for kelp beds; creation of sandy islands to provide suitable habitat for eelgrass; and various modifications to the Long Beach Breakwater such as removal and/or notching to improve water circulation. Measures will be grouped into discrete alternatives and analyzed in the IFR. In addition, the study will also evaluate the No Action alternative pursuant to NEPA.

3. Scoping and Analysis. a. The Corps intends to hold a public scoping meeting for the Draft IFR to aid in the determination of significant environmental issues associated with the proposed project, and to assist with alternative development. Affected federal, state and local resource agencies, Native American groups and concerned interest groups/individuals are invited to participate in the scoping process. Public participation is critical in defining the scope of analysis in the Draft IFR, identifying significant environmental issues in the Draft IFR, providing useful information such as published and unpublished data, sharing knowledge about relevant issues, and recommending potential measures or alternatives that may be considered for the purpose of meeting study objectives.

b. Potential impacts associated with the proposed project will be fully evaluated during the feasibility study. Identified planning constraints and considerations such as navigational operations, existing major utilities and infrastructure, minimizing flood risks will be considered. Resource categories that will be analyzed include: Physical environment, geology, biological resources, navigation/land use, air quality, water quality, recreational usage, aesthetics, cultural resources, transportation, noise, hazardous waste, socioeconomics and safety.

c. Throughout the feasibility study, the Corps and the City of Long Beach will coordinate and, or consult with other State and Federal regulatory and permitting agencies to ensure compliance with environmental laws and regulations including but not limited to the Coastal Zone Management Act, Clean Water Act, Endangered Species Act, U.S. Fish and Wildlife Coordination Act, Magnuson-Stevens Fishery Management and Conservation Act, as amended, National Historic Preservation Act, and the Clean Air Act.

4. Public Scoping Meetings: The Corps and City of Long Beach will jointly conduct two public scoping meetings at the date and address indicated above. The purpose of the scoping meeting is to gather information from the general public or interested organizations about issues and concerns that they would like to see addressed in the Draft IFR. Comments may be delivered in writing or verbally at the meeting. All comments will be entered into the public record.

5. Availability of the Draft IFR: The Draft IFR including Draft EIS/EIR is anticipated to be available for public review and comment in the spring or summer of 2017.

Dated: March 23, 2016.
Kirk E. Gibbs,
Colonel, U.S. Army, Commander and District Engineer.

[FR Doc. 2016-07284 Filed 3-30-16; 8:45 am]

BILLING CODE 3720-58-P